PEACE CORPS

Agency Information Collection Under Review by the Office of Management and Budget

AGENCY: Peace Corps.

ACTION: Notice of submission for OMB review, comment request.

SUMMARY: The Peace Corps has submitted an information collection to the Office of Management and Budget for review under the provisions of the Paperwork Reduction Act of 1995. The Peace Corps Career Information Consultants Waiver form, OMB Number 0420-0531. This form is completed voluntarily by returned Peace Corps Volunteers and professionals in specific career fields. This information will be used by Returned Volunteer Services to assist returned Peace Corps Volunteers with re-entry transition issues. participation in this program also fulfills the third goal of the Peace Corps as required by Congressional legislation and to enhance the Returned Volunteer Services' outreach program. This is a renewal of an active OMB Control number. No comments were received in response to the Peace Corps' earlier Federal Register Notice (May 21, 2001, Volume 66, Number 98, p. 28005 for 60 days).

DATES: Submit comments on or before December 16, 2001.

ADDRESSES: Comments should be addressed to Ms. Elvira May, Office of Returned Volunteer Services, Peace Corps, 111 20th Street, NW., Room 2134, Washington, DC 20526. Ms. May can be contacted by telephone at 202-692-1445 or 800-424-8580 ext 1445 or email at emay@peacecorps.gov. Email comments must be made in text and not in attachments. Comments on the form should also be addressed to the attention of Ms. May.

FOR FURTHER INFORMATION CONTACT: Ms. Elvira May, Office of Returned Volunteer Services, Peace Corps, 1111 20th Street, NW., Room 2134, Washington, DC 20526. Ms. May can be contacted by telephone at 202-692-1445 or 800-424-8580 ext 1445 or email at emay@peacecorps.gov. Email comments must be made in text and not in attachments. Comments on the form should also be addressed to the attention of Ms. May.

SUPPLEMENTARY INFORMATION: OMB Control Number: 0420-0531.

Title: Peace Corps Career Information Consultants Waiver Form.

Type of Review: Renewal, without change, of a previously approved collection that will expire December 31, 2001.

Respondents: Public.

Number of Respondents: None.

Need and Uses: This form is completed voluntarily by returned Peace Corps Volunteers and professionals in specific career fields. This information will be used by Returned Volunteer Services to assist returned Peace Corps Volunteers with re-entry transition issues. Participation in this program also fulfills the third goal of the Peace Corps as required by Congressional legislation and to enhance the Returned Volunteer Services' outreach program.

This notice is issued in Washington, DC on November 9, 2001.
Judy Van Rest,
Associate Director for Management.

[FR Doc. 02-1545 Filed 1-22-02; 8:45 am]

BILLING CODE 6051-01-M